DEPARTMENT OF THE INTERIOR

Bureau of Reclamation

Grassland Bypass Project Extension, Merced and Fresno Counties, CA

AGENCY: Bureau of Reclamation, Interior.

ACTION: Notice of intent to prepare an environmental impact statement/environmental impact report (EIS/EIR) and notice of scoping meeting.

SUMMARY: The Bureau of Reclamation (Reclamation) and the San Luis & Delta-Mendota Water Authority (Authority) are preparing a joint EIS/EIR, pursuant to the National Environmental Policy Act and the California Environmental Quality Act, to evaluate effects of extending the Grassland Bypass Project (Project) until December 31, 2019. The Project's use of the San Luis Drain (Drain) was only authorized until December 31, 2009. Additionally, subsurface drainage flows discharged to Mud Slough (North) were to have met water quality objectives by October 1, 2010, as required by the Regional Water Quality Control Board, Central Valley Region's (CVRWQCB) 1998 Water Quality Control Plan (Basin Plan) for the Sacramento River and San Joaquin River Basins. However, difficulty in acquiring final funding has delayed the development and availability of treatment and disposal technology to reduce selenium loads to meet the 2010 deadline. It is anticipated that the extension to 2019 would allow enough time to acquire funds and develop feasible treatment technology to meet Basin Plan objectives and Waste Discharge Requirements.

A scoping meeting will be held to solicit input on alternatives, concerns, and issues to be addressed in the EIS/EIR. Written comments may also be sent.

DATES: A scoping meeting will be held on Thursday, January 17, 2008 from 1:30 to 3:30 p.m. in Los Banos, CA.

Written comments on the scope of the EIS/EIR should be sent by January 25, 2008.

ADDRESSES: The scoping meeting location is the San Luis & Delta-Mendota Water Authority, Board Room, 842 Sixth Street, Suite 7, Los Banos, CA 93635.

Send written comments on the scope of the EIS/EIR to Ms. Laura Myers, Bureau of Reclamation, South-Central California Area Office, 1243 N Street, Fresno, CA 93721, via e-mail to lmyers@mp.usbr.gov, or faxed to 559-487-5130.

FOR FURTHER INFORMATION CONTACT: Ms. Laura Myers, 559-487-5179.

SUPPLEMENTARY INFORMATION: Prior to 1996 when the interim Project was implemented, subsurface agricultural drainage water was conveyed through channels that were also used to deliver water to wetland habitat areas. This dual use limited Reclamation's ability to deliver fresh water to the wetlands.

The interim Project was implemented in November 1995 through an “Agreement for Use of the San Luis Drain” (Use Agreement) (Agreement No. 6-07-20-w1319) between Reclamation and the Authority. A Finding of No Significant Impact (FONSI No. 96-1-MP) was approved by Reclamation for the interim Project, and the environmental commitments set forth in the FONSI were made an integral component of the initial Use Agreement. The Use Agreement and its renewal in 1999 allowed for use of the Drain for a 5-year period that concluded September 30, 2001.

A new Use Agreement (Agreement No. 01-WC-20-2075) was completed on September 28, 2001, for the period through December 31, 2009. This original Project, as well as the proposed extension, consolidates subsurface drainage flows on a regional basis (from the 97,000-acre Grassland Drainage Area); applies the drainage to salt tolerant crops to reduce the volume; utilizes a 4-mile channel to place it into the Drain at a point near Russell Avenue (Milepost 105.72, Check 19); and utilizes a 28-mile segment of the San Luis Drain to convey the remaining drainage flows around wetland habitat areas which it discharges it to Mud Slough (North) and subsequently to the San Joaquin River.

The actions to be analyzed in the EIS/EIR include continued use of the Grassland Bypass Channel and a 28-mile segment of the San Luis Drain, continued discharges to Mud Slough (North), sediment management options within that San Luis Drain segment; ongoing use and development of areas utilized for application of subsurface drainage on salt tolerant crops, and programmatic consideration of future phases of the treatment and disposal program. The Project extension also includes a monitoring program with biological, water quality, and sediment components. Results of the monitoring program are currently reviewed by an Oversight Committee quarterly, or as necessary, to implement the Use Agreement.

In order to continue to discharge into Mud Slough (North) in the State's China Island Wildlife Area, the Authority would need to extend or amend a Memorandum of Understanding with the California Department of Fish and Game, Reclamation would need to extend the Use Agreement with the Authority for the continued use of the San Luis Drain after 2009, the CVRWQCB would need to revise their Basin Plan objectives for 2010 and amend the existing Waste Discharge Requirements in order to allow for anticipated drainage discharge into Mud Slough North, and Reclamation and the Authority would need to remove existing and future sediments from the affected portion of the Drain.

Special Assistance for Public Scoping Meeting

If special assistance is required at the scoping meetings, please contact Susan Mussett at 209-826-9696, or via e-mail at susan.mussett@sldmwa.org. Please notify as far in advance of the meeting as possible to secure the needed services. If a request cannot be honored, the requestor will be notified. A telephone device for the hearing impaired (TDD) is available at 559-487-5933.

Public Disclosure

Before including your name, address, phone number, e-mail address, or other personal identifying information in your comment, you should be aware that your entire comment—including your personal identifying information—may be made publicly available at any time. While you can ask us in your comment to withhold your personal identifying information from public review, we cannot guarantee that we will be able to do so.

Dated: December 17, 2007.
Susan M. Fry,
Regional Environmental Officer, Mid-Pacific Region.

[FR Doc. E7-24822 Filed 12-20-07; 8:45 am]

BILLING CODE 4310-MN-P